DEPARTMENT OF TRANSPORTATION

Federal Motor Carrier Safety Administration

[Docket No. FMCSA-2006-24925]

Establishment of the Commercial Driver's License (CDL) Advisory Committee

AGENCY: Federal Motor Carrier Safety Administration (FMCSA), DOT.

ACTION: Notice; Request for applications for membership.

SUMMARY: The FMCSA announces establishment of the Commercial Driver's License (CDL) Advisory Committee. Section 4135 of the Safe, Accountable, Flexible, Efficient Transportation Equity Act: A Legacy for Users (SAFETEA-LU) requires creation of a “task force” to study and address current impediments and foreseeable challenges to the CDL Program's effectiveness and measures needed to realize the full safety potential of the Program. The FMCSA is chartering an advisory committee under the Federal Advisory Committee Act (FACA) to satisfy this SAFETEA-LU requirement. This Notice provides background and details about the purpose and functions of the CDL Advisory Committee, in accordance with FACA, and discusses the issues the CDL Advisory Committee will study and address. The Secretary of Transportation will appoint to the CDL Advisory Committee 15 individuals, representing stakeholders. The CDL Advisory Committee will begin work by the end of calendar year 2006.

DATES: Applications must be received by January 2, 2007. FMCSA will periodically call for applications, as necessary.

FOR FURTHER INFORMATION CONTACT: Mr. Lloyd Goldsmith, Office of State Programs, CDL Division, Federal Motor Carrier Safety Administration, Department of Transportation, 400 Seventh Street, SW., Washington, DC 20590-0001. Telephone: (202) 366-2964. E-mail: Lloyd.Goldsmith@dot.gov. Office hours are from 8 a.m. to 5 p.m., e.t., Monday through Friday, except Federal holidays.

SUPPLEMENTARY INFORMATION:

Background

Congress found that one of the leading factors operating against commercial motor vehicle (CMV) safety is the possession of multiple licenses by commercial drivers. Drivers with multiple licenses spread their traffic violations over a number of licenses to maintain a “good driver” rating regardless of the number of violations they may have acquired in one or more States. In response to States' concerns, the Commercial Motor Vehicle Safety Act (CMVSA) of 1986 (49 U.S.C. 31311(a)) directed the Department of Transportation (DOT) to establish, through the CDL Program, Federal minimum standards for licensing, testing, qualification, and classification of commercial drivers. The goal of CMVSA was to improve highway safety by ensuring that drivers of large trucks and buses were qualified to operate those vehicles and removing unsafe and unqualified drivers from the highways. CMVSA retained the State's right to issue a driver's license but established minimum national standards which States must meet when licensing CMV drivers.

The established standards are based on CMVSA and were designed to: Prohibit commercial drivers from possessing more than one commercial license; require that commercial drivers pass meaningful written and driving tests; require special qualifications for hazardous materials drivers; and establish disqualifications and penalties for drivers convicted of the traffic violations specified in 49 CFR 383.51. States that fail to comply with the requirements imposed by DOT are subject to withholding of a percentage of their highway funds. To enable the States to fully implement the provisions of CMVSA, Congress required DOT to create a national Commercial Driver's License Information System (CDLIS) to enable States to communicate and exchange driver license information.

FMCSA provides grant funds to States to support CDL Program activities. CMVSA authorized DOT, working in partnership with the States, to help implement the CDL Program by expending $60 million in order to meet the goals established by Congress. These funds were to be used to develop the knowledge and skills tests; create a CDLIS telecommunications network connecting all State Departments of Motor Vehicles (DMVs); create national computer software to support each State in sharing information among the DMVs; implement the testing and licensing procedures of each State; and implement in each State an information system that would support the Program. Congress has provided additional funding to continue to improve the Program, and to implement new program initiatives and systems enhancements mandated by subsequent legislation.

FMCSA conducts compliance reviews to ensure that States comply with the provisions of section 12009(a) of CMVSA.

CDL Advisory Committee

Section 4135 of the Safe, Accountable, Flexible, Efficient Transportation Equity Act: A Legacy for Users (SAFETEA-LU) (Pub. L. 109-59, August 10, 2005, 119 Stat. 1736) directed the Secretary of Transportation to establish a “task force” to study and address current impediments and foreseeable challenges to the CDL Program's effectiveness. The FMCSA is chartering an advisory committee under the Federal Advisory Committee Act (FACA) to satisfy this SAFETEA-LU requirement.

The CDL Advisory Committee will examine a number or issues, including the following:

(1) State enforcement practices;

(2) Operational procedures to detect and deter fraud;

(3) Needed improvements for seamless information sharing between states;

(4) Effective methods for accurately sharing electronic data between States;

(5) Adequate proof of citizenship;

(6) Updated technology; and

(7) Timely notification from judicial bodies concerning traffic and criminal convictions of CDL holders.

Request for Applications

FMCSA seeks applications for membership on the CDL Advisory Committee from interested persons who have education, training or experience in CDL issues. Specifically we seek applications from the following: State motor vehicle administrators, organizations representing government agencies or officials, members of the Judicial Conference, representatives of the trucking industry, representatives of labor organizations, safety advocates, and other significant stakeholders. To be eligible for appointment, members must be able to attend three to four meetings each year in the Washington, DC area and spend approximately five hours per month providing additional consultation. Interested individuals should have a commitment to transportation safety. For application information, please contact Mr. Lloyd Goldsmith at (202) 366-2964, or via e-mail at Lloyd.Goldsmith@dot.gov.

Conclusion

The Department and the Agency are committed to making our Nation's highways safer by implementing and enforcing commercial driver's license program effectiveness measures.

Issued on: November 27, 2006.
John H. Hill,
Administrator.

[FR Doc. E6-20304 Filed 11-30-06; 8:45 am]

BILLING CODE 4910-EX-P